DEPARTMENT OF JUSTICE

Drug Enforcement Administration

[Docket No. DEA-898]

Bulk Manufacturer of Controlled Substances Application: Cayman Chemical Company

AGENCY: Drug Enforcement Administration, Justice.

ACTION: Notice of application.

SUMMARY: Cayman Chemical Company, has applied to be registered as a bulk manufacturer of basic class(es) of controlled substance(s). Refer to Supplementary Information listed below for further drug information.

DATES: Registered bulk manufacturers of the affected basic class(es), and applicants therefore, may file written comments on or objections to the issuance of the proposed registration on or before November 12, 2021. Such persons may also file a written request for a hearing on the application on or before November 12, 2021.

ADDRESSES: Written comments should be sent to: Drug Enforcement Administration, Attention: DEA Federal Register Representative/DPW, 8701 Morrissette Drive, Springfield, Virginia 22152.

SUPPLEMENTARY INFORMATION: In accordance with 21 CFR 1301.33(a), this is notice that on July 15, 2021, Cayman Chemical Company, 1180 East Ellsworth Road, Ann Arbor, Michigan 48108-2419, applied to be registered as a bulk manufacturer of the following basic class(es) of controlled substance(s):

Controlled substance | Drug code | Schedule
3-Fluoro-N-methylcathinone (3-FMC) | 1233 | I
Cathinone | 1235 | I
Methcathinone | 1237 | I
4-Fluoro-N-methylcathinone (4-FMC) | 1238 | I
Pentedrone (α-methylaminovalerophenone) | 1246 | I
Mephedrone (4-Methyl-N-methylcathinone) | 1248 | I
4-Methyl-N-ethylcathinone (4-MEC) | 1249 | I
Naphyrone | 1258 | I
N-Ethylamphetamine | 1475 | I
N,N-Dimethylamphetamine | 1480 | I
Fenethylline | 1503 | I
Aminorex | 1585 | I
4-Methylaminorex (cis isomer) | 1590 | I
Gamma Hydroxybutyric Acid | 2010 | I
Methaqualone | 2565 | I
Mecloqualone | 2572 | I
JWH-250 (1-Pentyl-3-(2-methoxyphenylacetyl) indole) | 6250 | I
SR-18 (Also known as RCS-8) (1-Cyclohexylethyl-3-(2-methoxyphenylacetyl) indole) | 7008 | I
ADB-FUBINACA (n-(1-amino-3,3-dimethyl-1-oxobutan-2-yl)-1-(4-fluorobenzyl)-1H-indazole-3-carboxamide) | 7010 | I
5-Flouro-UR-144 and XLR11 [1-(5-Fluoro-pentyl)1H-indol-3-yl](2,2,3,3-tetramethylcyclopropyl)methanone | 7011 | I
AB-FUBINACA (N-(1-amino-3-methyl-1-oxobutan-2-yl)-1-(4-fluorobenzyl)-1H-indazole-3-carboxamide) | 7012 | I
(1-(4-Fluorobenzyl)-1H-indol-3-yl)(2,2,3,3tetramethylcyclopropyl)methanone | 7014 | I
JWH-019 (1-Hexyl-3-(1-naphthoyl)indole) | 7019 | I
MDMB-FUBINACA (Methyl 2-(1-4-fluorobenzyl)-1H-indazole-3-carboxamido)-3,3-dimethylbutanoate) | 7020 | I
2-(1-(4-fluorobenzyl)-1Hindazole-3-carboxamido)-3- methylbutanoate | 7021 | I
AB-PINACA (N-(1-amino-3-methyl-1-oxobutan-2-yl)-1-pentyl-1H-indazole-3-carboxamide) | 7023 | I
THJ-2201 [1-(5-fluoropentyl)-1H-indazol-3-yl](naphthalen-1-yl)methanone | 7024 | I
5F-AB-PINACA (N-(1-amino-3-methyl-1-oxobutan-2-yl)1-(5-fluoropentyl)-1 H-indazole-3-carboxamide) | 7025 | I
AB-CHMINACA (N-(1-amino-3-methyl-1-oxobutan-2-yl)-1-(cyclohexylmethyl)-1H-indazole-3-carboxamide | 7031 | I
MAB-CHMINACA (N-(1-amino-3,3dimethyl-1-oxobutan-2-yl)-1-(cyclohexylmethyl)-1H-indazole-3-carboxamide) | 7032 | I
5F-AMB (Methyl 2-(1-(5-fluoropentyl)-1H-indazola-3-carboxamido)-3-methylbutanoate) | 7033 | I
5F-ADB; 5F-MDMB-PINACA (Methyl 2-(1-(5fluoropentyl)-1H-indazole-3-carboxamido)-3,3dimethylbutanoate) | 7034 | I
ADB-PINACA (N-(1-amino-3,3-dimethyl-1-oxobutan-2-yl)-1-pentyl-1H-indazole-3-carboxamide) | 7035 | I
Ethyl 2-(1-(5-fluoropentyl)-1H-indazole-3-carboxamido)3,3-dimethylbutanoate | 7036 | I
Methyl 2-(1-(5-fluoropentyl)-1H-indole-3-carboxamido)3,3-dimethylbutanoate | 7041 | I
MDMB-CHMICA, MMB-CHMINACA (Methyl 2-(1-(cyclohenxylmethyl)-1H-indole-3-carboxamido)-3,3-dimethylbutanote)- | 7042 | I
MMB-CHMICA, AMB-CHMICA (methyl 2-(1(cyclohexylmethyl)-1 H-indole-3-carboxamido)-3methylbutanoate) | 7044 | I
N-(Adamantan-1-yl)-1-(4-fluorobenzyl)-1H-indazole-3carboxamide | 7047 | I
APINACA and AKB48 N-(1-Adamantyl)-1-pentyl-1H-indazole-3-carboxamide | 7048 | I
5F-APINACA, 5F-AKB48 (N-(adamantan-1-yl)-1-(5fluoropentyl)-1H-indazole-3-carboxamide) | 7049 | I
JWH-081 (1-Pentyl-3-(1-(4-methoxynaphthoyl) indole) | 7081 | I
1-(5-Fluoropentyl)-N-(2-phenylpropan-2-yl)-1H-indazole3-carboxamide | 7083 | I
5F-CUMYL-P7AICA (1-(5-fluoropentyl)-N-(2phenylpropan-2-yl)-1 H-pyrrolo[2,3-b]pyridine-3carboxamide) | 7085 | I
4-CN-CUMYL-BUTINACA (1-(4-cyanobutyl)-N-(2phenylpropan-2-yl)-1 H-indazole-3-carboxamide) | 7089 | I
SR-19 (Also known as RCS-4) (1-Pentyl-3-[(4-methoxy)-benzoyl] indole | 7104 | I
JWH-018 (also known as AM678) (1-Pentyl-3-(1-naphthoyl)indole) | 7118 | I
JWH-122 (1-Pentyl-3-(4-methyl-1-naphthoyl) indole) | 7122 | I
UR-144 (1-Pentyl-1H-indol-3-yl)(2,2,3,3-tetramethylcyclopropyl)methanone | 7144 | I
JWH-073 (1-Butyl-3-(1-naphthoyl)indole) | 7173 | I
JWH-200 (1-[2-(4-Morpholinyl)ethyl]-3-(1-naphthoyl)indole) | 7200 | I
AM2201 (1-(5-Fluoropentyl)-3-(1-naphthoyl) indole) | 7201 | I
JWH-203 (1-Pentyl-3-(2-chlorophenylacetyl) indole) | 7203 | I
NM2201; CBL2201 (Naphthalen-1-yl 1-(5-fluoropentyl)1 H-indole-3-carboxylate) | 7221 | I
PB-22 (Quinolin-8-yl 1-pentyl-1H-indole-3-carboxylate) | 7222 | I
5F-PB-22 (Quinolin-8-yl 1-(5-fluoropentyl)-1H-indole-3-carboxylate) | 7225 | I
4-methyl-alpha-ethylaminopentiophenone (4-MEAP) | 7245 | I
N-ethylhexedrone | 7246 | I
Alpha-ethyltryptamine | 7249 | I
Ibogaine | 7260 | I
CP-47,497 (5-(1,1-Dimethylheptyl)-2-[(1R,3S)-3-hydroxycyclohexyl-phenol) | 7297 | I
CP-47,497 C8 Homologue (5-(1,1-Dimethyloctyl)-2-[(1R,3S)3-hydroxycyclohexyl-phenol) | 7298 | I
Lysergic acid diethylamide | 7315 | I
2,5-Dimethoxy-4-(n)-propylthiophenethylamine (2C-T-7) | 7348 | I
Marihuana | 7360 | I
Tetrahydrocannabinols | 7370 | I
Mescaline | 7381 | I
2-(4-Ethylthio-2,5-dimethoxyphenyl) ethanamine (2C-T-2 ) | 7385 | I
3,4,5-Trimethoxyamphetamine | 7390 | I
4-Bromo-2,5-dimethoxyamphetamine | 7391 | I
4-Bromo-2,5-dimethoxyphenethylamine | 7392 | I
4-Methyl-2,5-dimethoxyamphetamine | 7395 | I
2,5-Dimethoxyamphetamine | 7396 | I
JWH-398 (1-Pentyl-3-(4-chloro-1-naphthoyl) indole) | 7398 | I
2,5-Dimethoxy-4-ethylamphetamine | 7399 | I
3,4-Methylenedioxyamphetamine | 7400 | I
5-Methoxy-3,4-methylenedioxyamphetamine | 7401 | I
N-Hydroxy-3,4-methylenedioxyamphetamine | 7402 | I
3,4-Methylenedioxy-N-ethylamphetamine | 7404 | I
3,4-Methylenedioxymethamphetamine | 7405 | I
4-Methoxyamphetamine | 7411 | I
5-Methoxy-N-N-dimethyltryptamine | 7431 | I
Alpha-methyltryptamine | 7432 | I
Diethyltryptamine | 7434 | I
Dimethyltryptamine | 7435 | I
Psilocybin | 7437 | I
Psilocyn | 7438 | I
5-Methoxy-N,N-diisopropyltryptamine | 7439 | I
4-chloro-alpha-pyrrolidinovalerophenone (4-chloro-a-PVP) | 7443 | I
4′-methyl-alpha-pyrrolidinohexiophenone (MPHP) | 7446 | I
N-Ethyl-1-phenylcyclohexylamine | 7455 | I
1-(1-Phenylcyclohexyl)pyrrolidine | 7458 | I
1-[1-(2-Thienyl)cyclohexyl]piperidine | 7470 | I
1-[1-(2-Thienyl)cyclohexyl]pyrrolidine | 7473 | I
N-Benzylpiperazine | 7493 | I
2-(2,5-Dimethoxy-4-methylphenyl) ethanamine (2C-D) | 7508 | I
2-(2,5-Dimethoxy-4-ethylphenyl) ethanamine (2C-E ) | 7509 | I
2-(2,5-Dimethoxyphenyl) ethanamine (2C-H) | 7517 | I
2-(4-iodo-2,5-dimethoxyphenyl) ethanamine (2C-I) | 7518 | I
2-(4-Chloro-2,5-dimethoxyphenyl) ethanamine (2C-C) | 7519 | I
2-(2,5-Dimethoxy-4-nitro-phenyl) ethanamine (2C-N) | 7521 | I
2-(2,5-Dimethoxy-4-(n)-propylphenyl) ethanamine (2C-P) | 7524 | I
2-(4-Isopropylthio)-2,5-dimethoxyphenyl) ethanamine (2C-T-4 ) | 7532 | I
MDPV (3,4-Methylenedioxypyrovalerone) | 7535 | I
2-(4-bromo-2,5-dimethoxyphenyl)-N-(2-methoxybenzyl) ethanamine (25B-NBOMe) | 7536 | I
2-(4-chloro-2,5-dimethoxyphenyl)-N-(2-methoxybenzyl) ethanamine (25C-NBOMe) | 7537 | I
2-(4-iodo-2,5-dimethoxyphenyl)-N-(2-methoxybenzyl) ethanamine (25I-NBOMe) | 7538 | I
Methylone (3,4-Methylenedioxy-N-methylcathinone) | 7540 | I
Butylone | 7541 | I
Pentylone | 7542 | I
alpha-pyrrolidinohexanophenone (a-PHP) | 7544 | I
alpha-pyrrolidinopentiophenone (α-PVP) | 7545 | I
alpha-pyrrolidinobutiophenone (α-PBP) | 7546 | I
Ethylone | 7547 | I
alpha-pyrrolidinoheptaphenone (PV8) | 7548 | I
AM-694 (1-(5-Fluoropentyl)-3-(2-iodobenzoyl) indole) | 7694 | I
Acetyldihydrocodeine | 9051 | I
Benzylmorphine | 9052 | I
Codeine-N-oxide | 9053 | I
Desomorphine | 9055 | I
Etorphine (except HCl) | 9056 | I
Codeine methylbromide | 9070 | I
Brorphine | 9098 | I
Dihydromorphine | 9145 | I
Difenoxin | 9168 | I
Heroin | 9200 | I
Hydromorphinol | 9301 | I
Morphine-N-oxide | 9307 | I
Normorphine | 9313 | I
U-47700 (3,4-dichloro-N-[2-(dimethylamino)cyclohexyl]-N-methylbenzamide) | 9547 | I
MT-45 (1-cyclohexyl-4-(1,2-diphenylethyl)piperazine)) | 9560 | I
Clonitazene | 9612 | I
Isotonitazene (N,N-diethyl-2-(2-(4 isopropoxybenzyl)-5-nitronitro-1H-benzimidazol-1-yl)ethan-1-amine) | 9614 | I
Etonitazene | 9624 | I
Ketobemidone | 9628 | I
Trimeperidine | 9646 | I
Tilidine | 9750 | I
Acryl fentanyl (N-(1-phenethylpiperidin-4-yl)-N-phenylacrylamide) | 9811 | I
Para-Fluorofentanyl | 9812 | I
3-Methylfentanyl | 9813 | I
Alpha-methylfentanyl | 9814 | I
Acetyl-alpha-methylfentanyl | 9815 | I
N-(2-fluorophenyl)-N-(1-phenethylpiperidin-4-yl)propionamide | 9816 | I
Para-Methylfentanyl (N-(4-methylphenyl)-N-(1phenethylpiperidin-4-yl)propionamide; also known as 4methylfentanyl) | 9817 | I
4′-Methyl acetyl fentanyl (N-(1-(4methylphenethyl)piperidin-4-yl)-N-phenylacetamide) | 9819 | I
ortho-Methyl methoxyacetyl fentanyl (2-methoxy-N-(2methylphenyl)-N-(1-phenethylpiperidin-4-yl)acetamide) | 9820 | I
Acetyl Fentanyl (N-(1-phenethylpiperidin-4-yl)-N-phenylacetamide) | 9821 | I
Butyryl Fentanyl | 9822 | I
Para-fluorobutyryl fentanyl | 9823 | I
4-Fluoroisobutyryl fentanyl (N-(4-fluorophenyl)-N-(1phenethylpiperidin-4-yl)isobutyramide) | 9824 | I
2-methoxy-N-(1-phenethylpiperidin-4-yl)-N-phenylacetamide | 9825 | I
Para-chloroisobutyryl fentanyl | 9826 | I
Isobutyryl fentanyl | 9827 | I
Beta-hydroxyfentanyl | 9830 | I
Beta-hydroxy-3-methylfentanyl | 9831 | I
Alpha-methylthiofentanyl | 9832 | I
3-Methylthiofentanyl | 9833 | I
Furanyl fentanyl (N-(1-phenethylpiperidin-4-yl)-N-phenylfuran-2-carboxamide) | 9834 | I
Thiofentanyl | 9835 | I
Beta-hydroxythiofentanyl | 9836 | I
Para-methoxybutyryl fentanyl | 9837 | I
Ocfentanil | 9838 | I
Thiofuranyl fentanyl (N-(1-phenethylpiperidin-4-yl)-Nphenylthiophene-2-carboxamide; also known as 2thiofuranyl fentanyl; thiophene fentanyl) | 9839 | I
Valeryl fentanyl | 9840 | I
Phenyl fentanyl (N-(1-phenethylpiperidin-4-yl)-Nphenylbenzamide; also known as benzoyl fentanyl) | 9841 | I
beta′-Phenyl fentanyl (N-(1-phenethylpiperidin-4-yl)-N,3diphenylpropanamide; also known as β′-phenyl fentanyl; 3-phenylpropanoyl fentanyl) | 9842 | I
N-(1-phenethylpiperidin-4-yl)-N-phenyltetrahydrofuran2-carboxamide | 9843 | I
Crotonyl fentanyl ((E)-N-(1-phenethylpiperidin-4-yl)-Nphenylbut-2-enamide) | 9844 | I
Cyclopropyl Fentanyl | 9845 | I
ortho-Fluorobutyryl fentanyl (N-(2-fluorophenyl)-N-(1phenethylpiperidin-4-yl)butyramide; also known as 2fluorobutyryl fentanyl) | 9846 | I
Cyclopentyl fentanyl | 9847 | I
ortho-Methyl acetylfentanyl (N-(2-methylphenyl)-N-(1phenethylpiperidin-4-yl)acetamide; also known as 2methyl acetylfentanyl) | 9848 | I
Fentanyl related-substances as defined in 21 CFR 1308.11(h) | 9850 | I
Fentanyl carbamate (ethyl (1-phenethylpiperidin-4yl)(phenyl)carbamate) | 9851 | I
ortho-Fluoroacryl fentanyl (N-(2-fluorophenyl)-N-(1phenethylpiperidin-4-yl)acrylamide) | 9852 | I
ortho-Fluoroisobutyryl fentanyl (N-(2-fluorophenyl)-N-(1phenethylpiperidin-4-yl)isobutyramide) | 9853 | I
Para-Fluoro furanyl fentanyl (N-(4-fluorophenyl)-N-(1phenethylpiperidin-4-yl)furan-2-carboxamide) | 9854 | I
2′-Fluoro ortho-fluorofentanyl (N-(1-(2fluorophenethyl)piperidin-4-yl)-N-(2fluorophenyl)propionamide; also known as 2′-fluoro 2fluorofentanyl) | 9855 | I
beta-Methyl fentanyl (N-phenyl-N-(1-(2phenylpropyl)piperidin-4-yl)propionamide; also known as β-methyl fentanyl) | 9856 | I
Amphetamine | 1100 | II
Methamphetamine | 1105 | II
Lisdexamfetamine | 1205 | II
Phenmetrazine | 1631 | II
Methylphenidate | 1724 | II
Amobarbital | 2125 | II
Pentobarbital | 2270 | II
Secobarbital | 2315 | II
Glutethimide | 2550 | II
1-Phenylcyclohexylamine | 7460 | II
Phencyclidine | 7471 | II
4-Anilino-N-phenethyl-4-piperidine (ANPP) | 8333 | II
Norfentanyl | 8366 | II
Phenylacetone | 8501 | II
1-Piperidinocyclohexanecarbonitrile | 8603 | II
Cocaine | 9041 | II
Codeine | 9050 | II
Etorphine HCl | 9059 | II
Dihydrocodeine | 9120 | II
Oxycodone | 9143 | II
Hydromorphone | 9150 | II
Ecgonine | 9180 | II
Ethylmorphine | 9190 | II
Hydrocodone | 9193 | II
Levomethorphan | 9210 | II
Levorphanol | 9220 | II
Isomethadone | 9226 | II
Meperidine | 9230 | II
Meperidine intermediate-B | 9233 | II
Oliriceridine | 9245 | II
Methadone | 9250 | II
Dextropropoxyphene, bulk (non-dosage forms) | 9273 | II
Morphine | 9300 | II
Thebaine | 9333 | II
Oxymorphone | 9652 | II
Noroxymorphone | 9668 | II
Thiafentanil | 9729 | II
Alfentanil | 9737 | II
Remifentanil | 9739 | II
Sufentanil | 9740 | II
Carfentanil | 9743 | II
Tapentadol | 9780 | II
Fentanyl | 9801 | II

The company plans to bulk manufacture the listed controlled substances for internal use or for sale to its customers. In reference to dug codes 7360 (Marihuana), and 7370 (Tetrahydrocannabinols), the company plans to bulk manufacture these drugs as synthetic. No other activities for these drug codes are authorized for this registration.

Brian S. Besser,
Acting Assistant Administrator.

[FR Doc. 2021-19632 Filed 9-10-21; 8:45 am]

BILLING CODE P